DEPARTMENT OF DEFENSE

Office of the Secretary

[Docket ID: DoD-2023-HA-0104]

Submission for OMB Review; Comment Request

AGENCY: Office of the Assistant Secretary of Defense for Health Affairs (OASD(HA)), Department of Defense (DoD).

ACTION: 30-Day information collection notice.

SUMMARY: The DoD has submitted to the Office of Management and Budget (OMB) for clearance the following proposal for collection of information under the provisions of the Paperwork Reduction Act.

DATES: Consideration will be given to all comments received by February 8, 2024.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, (571) 344-1358, whs.mc-alex.esd.mbx.dd-dod-information-collections@mail.mil.

SUPPLEMENTARY INFORMATION: Title; Associated Form; and OMB Number: Restructure or Realignment of Military Medical Treatment Facilities; OMB Control Number: 0720-RMTF.

Type of Request: New.

Number of Respondents: 53,100.

Responses per Respondent: 2.

Annual Responses: 106,200.

Average Burden per Response: 10 minutes.

Annual Burden Hours: 17,700.

Needs and Uses: The National Defense Authorization Act (NDAA) for Fiscal Year (FY) 2017 (NDAA FY 2017—Pub. L. 114-328), section 703 “Military Medical Treatment Facilities” (MTFs) states that, there shall be an update on the study (i.e., a report) from the 2015 Military Health System Modernization Study that addresses the realignment or restructuring of MTFs. As part of the report on the implementation plan to restructure or realign all MTFs, this survey will provide valuable data on TRICARE beneficiary's experience with the transition from receiving their care at an MTF to now receiving care in the private-sector with a network provider/facility. The collection of this information will be from TRICARE prime enrollees empaneled at MTFs undergoing MTF restructuring as a result of NDAA FY 2017, section 703. The survey will be given two times, the first iteration given two weeks after transition to collect immediate information regarding the transition and access to care experience; a second survey will be released six months after transition to review progress. These TRICARE prime enrollees will be responding to questions relating to how their transition from the MTF to either a Network (private-sector care), Primary Care Manager (PCM), or TRICARE select resulted. This information will assist the DHA with assessing this restructuring effort as well as future efforts to ensure beneficiaries receive high-quality care. Specifically, survey findings will show what problems beneficiaries faced during the transition from their MTF PCM to a network PCM, details on access to care now with a network PCM, satisfaction with their new network PCM, and communications about the transition overall.

Affected Public: Individuals or households.

Frequency: On occasion.

Respondent's Obligation: Voluntary.

OMB Desk Officer: Mr. Matt Eliseo.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela Duncan.

Requests for copies of the information collection proposal should be sent to Ms. Duncan at whs.mc-alex.esd.mbx.dd-dod-information-collections@mail.mil.

Dated: January 3, 2024.
Aaron T. Siegel,
Alternate OSD Federal Register Liaison Officer, Department of Defense.

[FR Doc. 2024-00173 Filed 1-8-24; 8:45 am]

BILLING CODE 6001-FR-P